DEPARTMENT OF HEALTH AND HUMAN SERVICES

National Committee on Vital and Health Statistics: Meeting Standards Subcommittee

Pursuant to the Federal Advisory Committee Act, the Department of Health and Human Services (HHS) announces the following advisory committee meeting.

Name: National Committee on Vital and Health Statistics (NCVHS) Subcommittee on Standards.

Time and Date: February 27, 2013 9:30 a.m.-5:00 p.m. EST

Place: U.S. Department of Health and Human Services, HHS, 200 Independence Ave, SW., Room 705-A, Washington, DC 20201, (202) 690-7100.

Status: Open

Purpose: The purpose of the meeting is to learn about the current state of standards and operating rules for electronic claims attachments. In accordance with the Health Insurance Portability and Accountability Act of 1996 (HIPAA) and the Affordable Care Act of 2010 (ACA), the Department of Health and Human Services (HHS) must adopt a standard and operating rules for electronic claims attachments. The National Committee on Vital Health Statistics is the public advisory body to the Secretary of HHS and will make recommendations based on information gleaned at the hearing. The Sub-Committee is interested in evaluating the innovations underway in industry as the convergence occurs between the clinical and administrative information exchanges, and industry moves from a claim-centric, transaction-based administrative information infrastructure to quality-oriented and outcomes-based reporting.

Contact Person for More Information: Marjorie S. Greenberg, Executive Secretary, NCVHS, National Center for Health Statistics, Centers for Disease Control and Prevention, 3311 Toledo Road, Room 2402, Hyattsville, Maryland 20782, telephone (301) 458-4245 or Lorraine Doo, lead staff for the Standards Subcommittee, NCVHS, Centers for Medicare and Medicaid Services, Office of E-Health Standards and Services, 7500 Security Boulevard, Baltimore, Maryland, 21244, telephone (410) 786-6597. Program information as well as summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: December 21, 2012.
James Scanlon,
Deputy Assistant Secretary for Planning and Evaluation, Office of the Assistant Secretary for Planning and Evaluation.

[FR Doc. 2013-00011 Filed 1-4-13; 8:45 am]

BILLING CODE 4151-05-P